DEPARTMENT OF ENERGY

Federal Energy Regulatory Commission

[Project Nos. 14521-001, 14561-000]

KC Small Hydro LLC; Advanced Hydropower, Inc.; Notice of Preliminary Permit Application Accepted for Filing and Soliciting Comments, Motions To Intervene, and Competing Applications

On May 13, 2013, KC Scoby LLC filed an application for a preliminary permit, pursuant to section 4(f) of the Federal Power Act (FPA), and on October 30, 2013 filed for amendment of the application, changing the applicant to KC Small Hydro LLC. (KCS Hydro). On November 5, 2013, Advanced Hydropower, Inc. (Advanced Hydro) filed a competing application for a preliminary permit. Both applicants propose to study the feasibility of a hydropower project to be located at the U.S. Army Corps of Engineers' (Corps) Falls Lake Dam on the Neuse River near the town of Raleigh in Wake County, North Carolina. The sole purpose of a preliminary permit, if issued, is to grant the permit holder priority to file a license application during the permit term. A preliminary permit does not authorize the permit holder to perform any land-disturbing activities or otherwise enter upon lands or waters owned by others without the owners' express permission.

KCS Hydro's proposed project would consist of the following: (1) Two turbine/generator units, with a total capacity of 1,700 kilowatts (kW), installed within the existing intake tower; (2) an electrical control booth constructed on top of the intake tower; and (3) a 700-foot-long, 13.2 kilo-Volt (kV) underground transmission line. The proposed project would have an average annual generation of 5,000 megawatt-hours (MWh), and operate as directed by the Corps.

Applicant Contact: Ms. Kelly Sackheim, KC Small Hydro LLC, 5096 Cocoa Palm Way, Fair Oaks, CA 95628. (310) 401-5978.

Advanced Hydro's proposed project consists of two alternatives:

Alternative One: (1) A 17.4-foot-diameter extension of the existing outlet conduit; (2) a double wye connection with trashracks and butter-fly valves to route flow; (3) a powerhouse containing two generating units with a total capacity of 3,320 kW; (4) the existing stilling basin at the end of the outlet conduit would be enlarged; (5) a substation; and (6) a 180-foot-long, 13.2 kV transmission line. The proposed project would have an average annual generation of 9,800 megawatt-hours, and operate as directed by the Corps.

Alternative two: (1) A new intake structure with trashracks located in the reservoir to the south of the dam; (2) a 500-foot-long, 10-foot-diameter penstock; (3) a powerhouse containing two generating units with a total capacity of 3,320 kW; (4) the existing stilling basin at the end of the outlet conduit would be enlarged; (5) a substation; and (6) a 180-foot-long, 13.2 kV transmission line. The proposed project would have an average annual generation of 9,800 megawatt-hours, and operate as directed by the Corps.

Applicant Contact: Mr. Colin M. Gaines, Advanced Hydropower, Inc., 3774 Chessa Lane, Clovis, CA 93619. (772) 321-6243.

FERC Contact: Michael Spencer, michael.spencer@ferc.gov, (202) 502-6093.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, please send a paper copy to: Secretary, Federal Energy Regulatory Commission, 888 First Street NE., Washington, DC 20426.

More information about this project, including a copy of the application, can be viewed or printed on the “eLibrary” link of Commission's Web site at http://www.ferc.gov/docs-filing/elibrary.asp. Enter the docket number (P-14521 or P-14561) in the docket number field to access the document. For assistance, contact FERC Online Support.

Dated: November 22, 2013.
Kimberly D. Bose,
Secretary.

[FR Doc. 2013-28719 Filed 11-27-13; 8:45 am]

BILLING CODE 6717-01-P